DEPARTMENT OF STATE

[Public Notice 4271]

Advisory Committee for the Study of Eastern Europe and the Independent States of the Former Soviet Union Notice of Meeting

The Department of State announces that the Advisory Committee for the Study of Eastern Europe and the Independent States of the Former Soviet Union (Title VIII) will convene on Monday, April 28, 2003, beginning at 10 a.m. in Room 1408, U.S. Department of State, Harry S Truman Building, 2201 C Street, NW., Washington, DC.

The Advisory Committee will recommend grant recipients for the FY 2003 competition of the Program for the Study of Eastern Europe and the Independent States of the Former Soviet Union in connection with the “Research and Training for Eastern Europe and the Independent States of the Former Soviet Union Act of 1983, as amended.” The agenda will include opening statements by the Chairman and members of the committee, and, within the committee, discussion, approval, and recommendation that the Department of State negotiate grant agreements with certain “national organizations with an interest and expertise in conducting research and training concerning the countries of Eastern Europe and the independent states of the former Soviet Union,” based on the guidelines contained in the call for applications published in the Federal Register on November 19, 2002. Following committee deliberation, interested members of the public may make oral statements concerning the Title VIII program in general.

This meeting will be open to the public; however, attendance will be limited to the seating available. Entry into the Harry S Truman building is controlled and must be arranged in advance of the meeting. Those planning to attend should notify Susan Nelson, INR/RES, U.S. Department of State, (202) 736-4610 by Wednesday, April 23, 2003, providing their date of birth, Social Security Number, and any requirements for special needs. All attendees much use the 2201 C Street, NW., entrance to the building. Visitors who arrive without prior notification and without photo identification will not be admitted.

Dated: March 7, 2003.
Kenneth E. Roberts,
Executive Director, Advisory Committee for Study of Eastern Europe and the Independent States of the Former Soviet Union, Department of State.

[FR Doc. 03-6315 Filed 3-14-03; 8:45 am]

BILLING CODE 4710-32-P